DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Interactive Customer Evaluation System (ICE); OMB Number 0704-[To Be Determined].

Type of Request: New Collection.

Number of Respondents: 2,880.

Responses Per Respondent: 1.

Annual Responses: 2,880.

Average Burden Per Response: 3 minutes.

Annual Burden Hours: 144.

Needs and Uses: Members of the public who respond to this interactive customer evaluation system are authorized customers and have been provided a service through DoD customer service organizations. They have the opportunity to give automated feedback to the service provider on the quality of their experience and their satisfaction level. Customers also have the opportunity to provide any comments that might be beneficial in improving the process and in turn service to the customer. This is a management tool for improving customer services.

Affected Public: Individuals or Households; Business or Other For-Profit.

Frequency: On Occasion.

Respondent's Obligation: Voluntary.

OMB Desk Officer: Mr. Edward C. Springer. Written comments and recommendations on the proposed information collection should be sent to Mr. Springer at the Office of Management and Budget, Desk Officer for DoD, Room 10236, New Executive Office Building, Washington, DC 20503.

DOD Clearance Officer: Mr. Robert Cushing. Written requests for copies of the information collection proposal should be sent to Mr. Cushing, WHS/DIOR, 1215 Jefferson Davis Highway, Suite 1204, Arlington, VA 22202-4302.

Dated: February 27, 2001.
Patricia L. Toppings,
Alternate OSD Federal Register Liaison Officer, Department of Defense.

[FR Doc. 01-5383 Filed 3-5-01; 8:45 am]

BILLING CODE 5001-10-M